FEDERAL COMMUNICATIONS COMMISSION

47 CFR Part 73

[DA 04-781, MB Docket No. 02-126, RM-10448]

Radio Broadcasting Services; Wynnewood, OK

AGENCY: Federal Communications Commission.

ACTION: Proposed rule, dismissal.

SUMMARY: This document dismisses a pending petition for rulemaking to add an FM allotment in Wynnewood, Oklahoma. The Commission had requested comment on a petition filed by David Garland, proposing the allotment of Channel 266A at Wynnewood, Oklahoma. Wynnewood, Oklahoma, 17 FCC Rcd 9557 (MB 2002). The petitioner filed comments in support of the proposal. In addition, a counterproposal was filed by DFWU, Inc., proposing the alternative allotment of Channel 265A at Konawa, Oklahoma. Both the original proposal in this proceeding and the counterproposal were determined to be in conflict with, and outside the comment period for, proposals under consideration in MM Docket No. 01-180. Holdenville, Oklahoma, 16 FCC Rcd 14,912 (MM 2001). This document therefore dismisses the petition and counterproposal in this proceeding and terminates the proceeding.

FOR FURTHER INFORMATION CONTACT: Deborah A. Dupont, Media Bureau (202) 418-7072.

SUPPLEMENTARY INFORMATION: This is a synopsis of the Commission's Report and Order, MB Docket No. 02-126, adopted March 24, 2004, and released March 26, 2004. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Assistant Chief, Audio Division, Media Bureau.

[FR Doc. 04-8332 Filed 4-12-04; 8:45 am]

BILLING CODE 6712-01-P